DEPARTMENT OF THE TREASURY

Submission for OMB Review; Comment Request

February 2, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 11, 2004 to be assured of consideration.

Internal Revenue Service (IRS)

OMB Number: 1545-0145.

Form Number: IRS Form 2439.

Type of Review: Extension.

Title: Notice to Shareholder of Undistributed Long-Term Capital Gains.

Description: Form 2439 is sent by regulated investment companies and real estate investment trusts to report undistributed capital gains and the amount of tax paid on these gains designated under Internal Revenue Code (IRC) section 852(b)(3)(D) or 857(b)(3)(D). The company, the trust, and the shareholder file copies of Form 2439 with IRS. IRS uses the information to check shareholder compliance.

Respondents: Business or other for-profit.

Estimated Number of Respondents/Recordkeepers: 8,363.

Estimated Burden Hours Respondent/Recordkeeper:

Recordkeeping—3 hr., 21 min.

Learning about the law or the form—53 min.

Preparing and sending the form to the IRS—59 min.

Frequency of Response: Annually.

Estimated Total Reporting/Recordkeeping Burden: 43,739 hours.

Clearance Officer: Glenn P. Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-2852 Filed 2-9-04; 8:45 am]

BILLING CODE 4830-01-P